DEPARTMENT OF AGRICULTURE

Animal and Plant Health Inspection Service

[Docket No. APHIS-2010-0013]

Notice of Revision and Request for Extension of Approval of an Information Collection; Highly Pathogenic Avian Influenza; Subtype H5N1

AGENCY: Animal and Plant Health Inspection Service, USDA.

ACTION: Revision and extension of approval of an information collection; comment request.

SUMMARY: In accordance with the Paperwork Reduction Act of 1995, this notice announces the Animal and Plant Health Inspection Service’s intention to revise an information collection associated with regulations to prevent the introduction of the H5N1 subtype of highly pathogenic avian influenza through imported birds, poultry, and unprocessed bird and poultry products and to request extension of approval of the information collection.

DATES: We will consider all comments that we receive on or before June 1, 2010.

ADDRESSES: You may submit comments by either of the following methods:

• Federal eRulemaking Portal: Go to (http://www.regulations.gov/fdmspublic/component/main?main=DocketDetail&d=APHIS-2010-0013) to submit or view comments and to view supporting and related materials available electronically.

• Postal Mail/Commercial Delivery: Please send two copies of your comment to Docket No. APHIS-2010-0013, Regulatory Analysis and Development, PPD, APHIS, Station 3A-03.8, 4700 River Road Unit 118, Riverdale, MD 20737-1238. Please state that your comment refers to Docket No. APHIS-2010-0013.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: For information on regulations to prevent the introduction of highly pathogenic avian influenza, subtype H5N1, contact Dr. Bettina Cooper, Staff Veterinarian, Technical Trade Services Team—Animals, NCIE, VS, APHIS, 4700 River Road Unit 39, Riverdale, MD 20737; (301) 734-3400; or Dr. Tracye Butler, Assistant Director, Technical Trade Services Team—Products, NCIE, VS, APHIS, 4700 River Road Unit 40, Riverdale, MD 20737; (301) 734-3277. For copies of more detailed information on the information collection, contact Mrs. Celeste Sickles, APHIS’ Information Collection Coordinator, at (301) 851-2908.

SUPPLEMENTARY INFORMATION:

Title: Highly Pathogenic Avian Influenza; Subtype H5N1.

OMB Number: 0579-0245.

Type of Request: Revision and extension of approval of an information collection.

Abstract: Under the Animal Health Protection Act (7 U.S.C. 8301 et seq.), the Animal and Plant Health Inspection Service (APHIS) of the United States Department of Agriculture is authorized, among other things, to prohibit or restrict the importation and interstate movement of animals and animal products to prevent the introduction into and dissemination within the United States of livestock diseases and pests. To carry out this mission, APHIS regulates the importation of animals and animal products into the United States. The regulations are contained in title 9, parts 92 through 98, of the Code of Federal Regulations.

The regulations in 9 CFR parts 93, 94, and 95 govern, among other things, the importation of certain birds, poultry, and unprocessed bird and poultry products and byproducts to prevent the introduction of the H5N1 subtype of highly pathogenic avian influenza (HPAI H5N1).

HPAI H5N1 is an extremely infectious and fatal form of the disease for poultry. HPAI can strike poultry quickly without any warning signs of infection and, once established, can spread rapidly from flock to flock. HPAI viruses can also be spread by manure, equipment, vehicles, egg flats, crates, and people whose clothing or shoes have come in contact with the virus. HPAI viruses can remain viable at moderate temperatures for long periods in the environment and can survive indefinitely in frozen material. One gram of contaminated manure can contain enough virus to infect 1 million poultry.

APHIS’ regulations prohibit or restrict the importation of unprocessed bird and poultry products and byproducts from regions that have reported the presence of the H5N1 subtype of HPAI, and contain permit and quarantine requirements for U.S. origin pet birds and performing or theatrical birds and poultry returning to the United States after being in such regions. The provisions necessitate the use of several information collection activities, including an Application to Import Controlled Materials or Transport Organisms and Vectors (VS Form 16-3), an Application for Import or In-Transit Permit (VS Form 17-129), a notarized declaration or affirmation, a Pet Bird Owner Agreement (VS Form 17-8), and notification of signs of disease in a recently imported bird. We are revising the currently approved information collection (0579-0245) to include an Import Permit (VS Form 16-6).

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.2935 hours per response.

Respondents: U.S. importers of unprocessed bird and poultry products from regions where HPAI subtype H5N1 has been reported, and owners of U.S.-origin pet birds and U.S. performing or theatrical birds or poultry returning to the United States.

Estimated annual number of respondents: 270.

Estimated annual number of responses per respondent: 2.0852.

Estimated annual number of responses: 563.

Estimated total annual burden on respondents: 165.26 hours. (Due to averaging, the total annual burden hours may not equal the product of the annual number of responses multiplied by the reporting burden per response.)

All responses to this notice will be summarized and included in the request for OMB approval. All comments will also become a matter of public record.

Done in Washington, DC, this 24th day of March 2010.

Gregory L. Parham
Acting Administrator, Animal and Plant Health Inspection Service.

[FR Doc. 2010-7046 Filed 3-29-10: 9:46 am]

BILLING CODE 3410-34-S